ENVIRONMENTAL PROTECTION AGENCY

[ER-FRL-9016-3]

Environmental Impact Statements; Notice of Availability

Responsible Agency: Office of Federal Activities, General Information (202) 564-7146 or http://www.epa.gov/compliance/nepa/.

Weekly receipt of Environmental Impact Statements,

Filed 07/28/2014 Through 08/01/2014

Pursuant to 40 CFR 1506.9.

Notice: Section 309(a) of the Clean Air Act requires that EPA make public its comments on EISs issued by other Federal agencies. EPA's comment letters on EISs are available at: http://www.epa.gov/compliance/nepa/eisdata.html.

EIS No. 20140210, Draft EIS, NPS, NY, Fire Island National Seashore Draft White-tailed Deer Management Plan, Comment Period Ends: 10/10/2014, Contact: Morgan Elmer 303-969-2317

EIS No. 20140211, Final EIS, FHWA, OR, US 97 Bend North Corridor Project, Review Period Ends: 09/08/2014, Contact: Michelle Eraut 503-316-2559

EIS No. 20140212, Draft EIS, FERC, PA, Multi-Project for Hydropower Licenses, Susquehanna River Hydroelectric Projects, Comment Period Ends: 09/29/2014, Contact: Emily Carter 202-502-6512

EIS No. 20140213, Draft EIS, FHWA, AL, I-10 Mobile River Bridge and Bayway Widening Project No. DPI-0030(005), Comment Period Ends: 11/07/2014, Contact: Mr. Mark D. Bartlett 334-274-6350

EIS No. 20140214, Final EIS, AFS, OR, Eden Ridge Timber Sales, Review Period Ends: 09/08/2014, Contact: Holly Witt 541-247-3688

EIS No. 20140215, Final EIS, USACE, FL, Central Everglades Planning Project, Review Period Ends: 09/08/2014, Contact: Dr. Gretchen Ehlinger 904-232-1682

EIS No. 20140216, Second Final EIS, AFS, MT, East Reservoir, Review Period Ends: 09/08/2014, Contact: Denise Beck 406-293-7773 x7504

EIS No. 20140217, Draft Supplement, NNSA, TN, Production of Tritium in a Commercial Light Water Reactor, Comment Period Ends: Contact: Curtis Chambellan 505-845-5073

EIS No. 20140218, Final EIS, APHIS, 00, Determinations of Nonregulated Status for 2, 4-D-Resistant Corn and Soybean Varieties, Review Period Ends: 09/08/2014, Contact: Sid Abel 301-851-3896

EIS No. 20140219, Final EIS, USACE, NC, NC-1409 (Military Cutoff Road) Extension and Proposed US 17 Homestead Bypass, Review Period Ends: 09/08/2014, Contact: Brad Shaver 910-251-4611

Dated: August 5, 2014.
Dawn Roberts,
Management Analyst, NEPA Compliance Division, Office of Federal Activities.

[FR Doc. 2014-18820 Filed 8-7-14; 8:45 am]

BILLING CODE 6560-50-P